Title 3—

The President

Proclamation 10095 of October 5, 2020

German-American Day, 2020

By the President of the United States of America

A Proclamation

Since our founding, German-Americans have been central to our progress as a Nation. Industrious and faithful early German immigrants came to our shores to fulfill dreams of economic opportunity and to live out their faith free from government interference. These men and women established families and built livelihoods, exhibiting virtues that helped form our unique American ethos and passing down traditions that continue to shape our cultural identity. Today, on German-American Day, we commemorate the extraordinary contributions of German-Americans to our country, and we pay tribute to the more than 43 million Americans who, like myself, claim German heritage.

The story of German-Americans is embedded in the most sacred chapters of American lore. When members of the first Continental Congress met in Philadelphia to forge a future of freedom on this continent, they walked down streets brimming with German businesses. Their deliberations were diligently reported in German-language broadsides and rigorously debated in German-owned coffeehouses. On July 4, 1776, when the Founding Fathers declared our independence, a German-language newspaper was the first to break the news to the new Nation. The next day, the streets were flooded with German translations of Thomas Jefferson's revolutionary words proclaiming that “all men are created equal.”

Ever since, Americans of German descent have left their mark on our history. German influence played a large role in establishing our unyielding commitment to universal public education. It was a German-American, Margarethe Meyer Schurz, who opened the first kindergarten in America. German-Americans helped champion physical education and built the first gymnasiums for school buildings, positively affecting the physical health of our schoolchildren. German-Americans also introduced vocational training in public schools, providing new avenues for economic empowerment for young people and fueling American prosperity.

Over the years, German customs have also become infused into American culture. Our cherished Christmas and Easter traditions are influenced by practices of early German arrivals. At Christmastime, we draw on German culture when we decorate Christmas trees and exchange gifts. During Easter, we have German immigrants to thank for our Easter egg hunts. These traditionally German customs have become staples of American culture and continue to unite Americans of all backgrounds.

This month also marks the 30th anniversary of German reunification following the fall of the Berlin Wall in November of 1989. This historic moment marked a triumph for democracy and paved the way for a more free and open Europe. As we celebrate the many contributions of German-Americans to our country, we also celebrate our strong transatlantic ties with Germany and recommit to working together to forge a brighter future for both our nations and the world.

Today, we celebrate the societal achievements and cultural contributions of all German-Americans and reflect on the hardworking and efficient spirit that they have imbued in our national character. From engineers and doctors to bakers and inventors, they have strengthened our economy and enriched our communities. Thanks in part to their dedication and hard work, our country remains a shining beacon of freedom and prosperity.

NOW, THEREFORE, I, DONALD J. TRUMP, President of the United States of America, by virtue of the authority vested in me by the Constitution and the laws of the United States, do hereby proclaim October 6, 2020, as German-American Day. I call upon all Americans to celebrate the achievements and contributions of German Americans to our Nation with appropriate ceremonies, activities, and programs.

IN WITNESS WHEREOF, I have hereunto set my hand this fifth day of October, in the year of our Lord two thousand twenty, and of the Independence of the United States of America the two hundred and forty-fifth.

[FR Doc. 2020-22635

Filed 10-8-20; 11:15 am]

Billing code 3295-F1-P